DEPARTMENT OF JUSTICE

Notice of Lodging of Proposed Consent Decree Under the Clean Water Act

On July 2, 2013, the Department of Justice lodged a proposed Consent Decree (“Consent Decree”) with the United States District Court for the Western District of Arkansas in the lawsuit entitled United States et al. v. Arkansas Egg Company, Inc., Civil Action No. 5:13-cv-05127-JLH.

In this action the United States, acting on behalf of the U.S. Environmental Protection Agency, and joined by the State of Arkansas, acting on behalf of the Arkansas Department of Environmental Quality, filed a complaint against Arkansas Egg Company, Inc., an owner and operator of a chicken egg facility in Summers, Arkansas, seeking civil penalties and injunctive relief for unpermitted discharges of pollutants into waters of the United States and the State, in violation of Section 301(a) of the Clean Water Act (CWA), 33 U.S.C. 1311(a), and the Arkansas Water and Air Pollution Control Act, Ark. Code Ann. section 8-4-101 et seq. The Consent Decree resolves the Complaint's allegations and requires the Settling Defendant, Arkansas Egg Company, Inc., to pay a $10,000 civil penalty to the United States and the State of Arkansas, which is based on a limited ability to pay. Additionally, under the Consent Decree Arkansas Egg Company, Inc., will remove the contents of and permanently close two on-site lagoons; monitor groundwater during and after the lagoon closure process; and dispose of egg washwater under a state permit for an on-site septic and leach field system.

The publication of this notice opens a period for public comment on the Consent Decree. Comments should be addressed to the Assistant Attorney General, Environment and Natural Resources Division, and should refer to United States v. Arkansas Egg Company, Inc., D.J. Ref. No. 90-5-1-1-09991. All comments must be submitted no later than thirty (30) days after the publication date of this notice. Comments may be submitted either by email or by mail:

To submit comments: | Send them to:
By email | pubcomment-ees.enrd@usdoj.gov.
By mail | Assistant Attorney General U.S. DOJ-ENRD P.O. Box 7611 Washington, D.C. 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ-ENRD, P.O. Box 7611, Washington, DC 20044-7611.

Please enclose a check or money order for $46.25 (25 cents per page reproduction cost) payable to the United States Treasury. For a paper copy without the exhibits, the cost is $14.50.

Maureen Katz,
Assistant Section Chief, Environmental Enforcement Section, Environment and Natural Resources Division.

[FR Doc. 2013-16356 Filed 7-8-13; 8:45 am]

BILLING CODE 4410-15-P